DEPARTMENT OF THE TREASURY

Office of Foreign Assets Control

Additional Identifying Information Associated With Persons Whose Property and Interests in Property Are Blocked Pursuant to the Executive Order of April 12, 2010, “Blocking Property of Certain Persons Contributing to the Conflict in Somalia”

AGENCY: Office of Foreign Assets Control, Treasury.

ACTION: Notice.

SUMMARY: The Treasury Department's Office of Foreign Assets Control (“OFAC”) is publishing additional identifying information associated with the eleven individuals and one entity listed in the Annex to the Executive Order of April 12, 2010, “Blocking Property of Certain Persons Contributing to the Conflict in Somalia,” whose property and interests in property are therefore blocked.

FOR FURTHER INFORMATION CONTACT: Assistant Director, Compliance Outreach & Implementation, Office of Foreign Assets Control, Department of the Treasury, 1500 Pennsylvania Avenue, NW., (Treasury Annex), Washington, DC 20220, Tel.: 202/622-2490.

SUPPLEMENTARY INFORMATION:

Electronic and Facsimile Availability

This document and additional information concerning OFAC are available from OFAC's Web site (http://www.treas.gov/ofac) or via facsimile through a 24-hour fax-on-demand service, Tel.: 202/622-0077.

Background

On April 12, 2010, the President issued the Executive Order “Blocking Property of Certain Persons Contributing to the Conflict in Somalia” (the “Order”) pursuant to, inter alia, the International Emergency Economic Powers Act (50 U.S.C. 1701-06). In the Order, the President declared a national emergency to address the deterioration of the security situation and the persistence of violence in Somalia and acts of piracy and armed robbery at sea off the coast of Somalia.

Section 1 of the Order blocks, with certain exceptions, all property and interests in property that are in the United States, that come within the United States, or that are or come within the possession or control of any United States person, of persons listed in the Annex to the Order and of persons determined by the Secretary of the Treasury, in consultation with the Secretary of State, to satisfy certain criteria set forth in the Order.

The Annex to the Order lists eleven individuals and one entity whose property and interests in property are blocked pursuant to the Order. OFAC is publishing additional identifying information associated with those individuals and that entity. As noted in the listings below, the property and interests in property of some of those persons also are blocked pursuant to other OFAC sanctions programs.

The listings for those individuals and that entity now appear as follows:

Individuals

1. ABDILLAHI, Abshir (a.k.a. ABDULAHI, Asad; a.k.a. ABDULI, Aburashid Abdulahi; a.k.a. ABDULLAHI, Abshir; a.k.a. BOYAH, Abshir; a.k.a. “BOOYAH”; a.k.a. “BOYAH”), Eyl, Somalia; Garowe, Somalia; DOB circa 1966; POB Eyl, Somalia (individual) [SOMALIA]

2. AL-TURKI, Hassan Abdullah Hersi (a.k.a. AL-TURKI, Hassan; a.k.a. TURKI, Hassan; a.k.a. TURKI, Hassan Abdillahi Hersi; a.k.a. TURKI, Sheikh Hassan; a.k.a. XIRSI, Xasan Cabdilaahi; a.k.a. XIRSI, Xasan Cabdulle), Somalia; DOB circa 1944; POB Ogaden Region, Ethiopia; nationality Somalia (individual) [SDGT] [SOMALIA]

3. AWEYS, Hassan Dahir (a.k.a. ALI, Sheikh Hassan Dahir Aweys; a.k.a. AWES, Hassan Dahir; a.k.a. AWES, Shaykh Hassan Dahir; a.k.a. AWEYES, Hassen Dahir; a.k.a. AWEYS, Ahmed Dahir; a.k.a. AWEYS, Sheikh; a.k.a. AWEYS, Sheikh Hassan Dahir; a.k.a. DAHIR, Aweys Hassan; a.k.a. IBRAHIM, Mohammed Hassan; a.k.a. OAIS, Hassan Tahir; a.k.a. UWAYS, Hassan Tahir; a.k.a. “HASSAN, Sheikh”), Somalia; Eritrea; DOB 1935; citizen Somalia; nationality Somalia (individual) [SDGT] [SOMALIA]

4. AW-MOHAMED, Ahmed Abdi (a.k.a. ABU ZUBEYR, Muktar Abdirahman; a.k.a. ABUZUBAIR, Muktar Abdulrahim; a.k.a. AW MOHAMMED, Ahmed Abdi; a.k.a. AW-MOHAMUD, Ahmed Abdi; a.k.a. “GODANE”; a.k.a. “GODANI”; a.k.a. “MUKHTAR, Shaykh”; a.k.a. “ZUBEYR, Abu”); DOB 10 Jul 1977; POB Hargeysa, Somalia; nationality Somalia (individual) [SDGT] [SOMALIA]

5. BAYNAH, Yasin Ali (a.k.a. ALI, Yasin Baynah; a.k.a. ALI, Yassin Mohamed; a.k.a. BAYNAH, Yasin; a.k.a. BAYNAH, Yassin; a.k.a. BAYNAX, Yasiin Cali; a.k.a. BEENAH, Yasin; a.k.a. BEENAH, Yassin; a.k.a. BEENAX, Yasin; a.k.a. BEENAX, Yassin; a.k.a. BENAH, Yasin; a.k.a. BENAH, Yassin; a.k.a. BENAX, Yassin; a.k.a. BEYNAH, Yasin; a.k.a. BINAH, Yassin; a.k.a. CALI, Yasiin Baynax), Rinkeby, Stockholm, Sweden; Mogadishu, Somalia; DOB circa 1966; nationality Somalia; alt. nationality Sweden (individual) [SOMALIA]

6. GARAAD, Mohamed Abdi (a.k.a. GARAAD, Mohamud Mohamed; a.k.a. GARAD, Abdi; a.k.a. GARAD, Mohamed), Eyl, Somalia; Garowe, Somalia; DOB circa 1973; POB Eyl, Somalia (individual) [SOMALIA]

7. GHEBREAB, Yemane (a.k.a. GEBRE AB, Yemane; a.k.a. GEBREAB, Yemane; a.k.a. YOHANNES, Yemane Ghebreab W.), Tegadelti Street, Asmara, Eritrea; 12 Keren Street, Asmara, Eritrea; DOB 21 Jul 1951; POB Asmara, Eritrea; Passport D000901 (Eritrea); alt. Passport D001082 (Eritrea) (individual) [SOMALIA]

8. KHALAF, Fuad Mohamed (a.k.a. KALAF, Fuad Mohamed; a.k.a. KALAF, Fuad Mohammed; a.k.a. KHALAF, Fuad; a.k.a. KHALIF, Fuad Mohamed; a.k.a. KHALIF, Fuad Mohammed; a.k.a. QALAF, Fuad Mohamed; a.k.a. SHANGOLE, Fuad; a.k.a. SHONGALE, Fouad; a.k.a. SHONGALE, Fuad; a.k.a. SHONGOLE, Fuad; a.k.a. SHONGOLE, Fuad Muhammad Khalaf; a.k.a. SONGALE, Fuad), Mogadishu, Somalia; nationality Somalia; alt. nationality Sweden (individual) [SOMALIA]

9. MAHAMOUD, Bashir Mohamed (a.k.a. GAP, Gure; a.k.a. MAHMOUD, Bashir Mohamed; a.k.a. MOHAMMED, Bashir Mahmud; a.k.a. MOHAMOUD, Bashir Mohamed; a.k.a. MOHAMUD, Bashir Mohamed; a.k.a. QORGAB, Bashir; a.k.a. YARE, Bashir; a.k.a. “MUSCAB, Abu”; a.k.a. “QORGAB”), Mogadishu, Somalia; nationality Somalia; DOB circa 1979-1982; alt. DOB 1982 (individual) [SOMALIA]

10. MANA'A, Fares Mohammed (a.k.a. MANAA, Fares Mohamed Hassan; a.k.a. MANAA, Fares Mohammed; a.k.a. MANA'A, Faris; a.k.a. MANA'A, Faris Mohamed Hassan; a.k.a. MANAA, Faris Mohamed Hassan); DOB 8 Feb 1965; alt. DOB 22 May 1970; alt. DOB 1968; POB Sadah, Yemen; Diplomatic Passport 000021986 (Yemen); alt. Diplomatic Passport A011892 (Yemen); alt. Diplomatic Passport A009829 (Yemen); National ID No. 1417576 (Yemen) issued 7 Jan 1996; Passport 00514146 (Yemen) (individual) [SOMALIA]

11. SA'ID, Mohamed (a.k.a. ATOM, Mohamed Sa'id; a.k.a. ATOM, Mohamed Siad; a.k.a. “ATOM”), Badhan, Somalia; Galgala, Puntland, Somalia; DOB circa 1966; POB Galgala, Puntland, Somalia (individual) [SOMALIA]

Entity

1. AL-SHABAAB (a.k.a. AL-SHABAAB AL-ISLAAM; a.k.a. AL-SHABAAB AL-ISLAMIYA; a.k.a. AL-SHABAAB AL-JIHAAD; a.k.a. AL-SHABAB; a.k.a. HARAKAT AL-SHABAAB AL-MUJAAHIDIIN; a.k.a. HARAKAT SHABAB AL-MUJAHIDIN; a.k.a. HARAKATUL-SHABAAB AL MUJAAHIDIIN; a.k.a. HISB'UL SHABAAB; a.k.a. HIZBUL SHABAAB; a.k.a. MUJAHIDEEN YOUTH MOVEMENT; a.k.a. MUJAHIDIN AL-SHABAAB MOVEMENT; a.k.a. MUJAHIDIN YOUTH MOVEMENT; a.k.a. SHABAAB; a.k.a. “MUJAAHIDIIN YOUTH MOVEMENT”; a.k.a. “MYM”; a.k.a. “THE UNITY OF ISLAMIC YOUTH”; a.k.a. “THE YOUTH”; a.k.a. “YOUTH WING”), Somalia [FTO] [SDGT] [SOMALIA]

Dated: April 13, 2010.
Barbara C. Hammerle,
Acting Director, Office of Foreign Assets Control.

[FR Doc. 2010-9009 Filed 4-19-10; 8:45 am]

BILLING CODE 4811-42-P